FEDERAL MINE SAFETY AND HEALTH REVIEW COMMISSION

Sunshine Act Notice

February 16, 2018.

TIME AND DATE: 10:00 a.m., Friday, March 23, 2018.

PLACE: The Richard V. Backley Hearing Room, Room 511N, 1331 Pennsylvania Avenue NW, Washington, DC 20004 (enter from F Street entrance).

STATUS: Open.

MATTERS TO BE CONSIDERED: The Commission will consider and act upon the following in open session: Secretary of Labor v. Consol Pennsylvania Coal Co., Docket No. PENN 2014-816 (Issues include whether the Judge erred in concluding that the operator violated a reporting requirement that applies when an accident has a “reasonable potential to cause death.”)

Any person attending this meeting who requires special accessibility features and/or auxiliary aids, such as sign language interpreters, must inform the Commission in advance of those needs. Subject to 29 CFR 2706.150(a)(3) and 2706.160(d).

CONTACT PERSON FOR MORE INFO: Emogene Johnson (202) 434-9935/(202) 708-9300 for TDD Relay/1-800-877-8339 for toll free.

PHONE NUMBER FOR LISTENING TO ARGUMENT: 1 (866) 867-4769, Passcode: 678-100.

Sarah L. Stewart,
Deputy General Counsel.

[FR Doc. 2018-03641 Filed 2-16-18; 4:15 pm]

BILLING CODE 6735-01-P